FEDERAL COMMUNICATIONS COMMISSION

47 CFR Part 73

[DA 00-1079; MM Docket No. 00-79, RM-9802]

Radio Broadcasting Services; Jackson and Salyersville, KY

AGENCY: Federal Communications Commission.

ACTION: Proposed rule.

SUMMARY: The Commission requests comments on a petition jointly filed by Intermountain Broadcasting Company and Wallingford Broadcasting Company, Inc., requesting the substitution of Channel 247C2 for Channel 293A at Jackson, Kentucky, and the modification of Station WKSN(FM)'s license accordingly; and the substitution of Channel 293C3 for Channel 247C3 at Salyersville, Kentucky, and the modification of Station WRLV-FM's construction permit accordingly. Channel 247C2 can be allotted at Jackson in compliance with the Commission's minimum distance separation requirements with a site restriction of 13.1 kilometers (8.2 miles) north at Station WJSN(FM)'s requested site. The coordinates for Channel 247C2 at Jackson are 37-40-19 North Latitude and 83-24-21 West Longitude. Additionally, Channel 293C3 can be allotted to Salyersville without the imposition of a site restriction at Station WRLV-FM's requested site. The coordinates for Channel 293C3 at Salyersville are 37-49-05 North Latitude and 83-17-01 West Longitude.

DATES: Comments must be filed on or before July 7, 2000, reply comments on or before July 24, 2000.

ADDRESSES: Federal Communications Commission, Washington, DC 20554. In addition to filing comments with the FCC, interested parties should serve the petitioner, or its counsel or consultant, as follows: John F. Garziglia, Esq., Pepper & Corazzini, L.L.P., 1776 K Street, NW, Suite 200, Washington, DC 20006 (Counsel for Intermountain Broadcasting Company); and Mark N. Lipp, Esq., Shook, Hardy & Bacon, L.L.P., 600 14th Street, NW, Suite 800, Washington, DC 20005 (Counsel for Wallingford Broadcasting Company, Inc.).

FOR FURTHER INFORMATION CONTACT: Sharon P. McDonald, Mass Media Bureau, (202) 418-2180.

SUPPLEMENTARY INFORMATION: This is a synopsis of the Commission's Notice of Proposed Rule Making, MM Docket No. 00-79, adopted May 10, 2000, and released May 16, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-13599 Filed 5-31-00; 8:45 am]

BILLING CODE 6712-01-P